DEPARTMENT OF TRANSPORTATION

Surface Transportation Board

[STB Finance Docket No. 35341]

Pioneer Industrial Railway Co.—Trackage Rights Exemption—Central Illinois Railroad Company

Pursuant to a written trackage rights agreement, Central Illinois Railroad Company (CIRY) has agreed to grant non-exclusive local trackage rights to Pioneer Industrial Railway Co. (PIRY) over approximately 4.81 miles of rail line in the City of Peoria, Peoria County, IL, as follows: (1) The southern segment of the Kellar Branch, between mileposts 1.71 and 2.78, (2) the northern segment of the Kellar Branch, between mileposts 8.50 and 10.0, and (3) the western connection, between milepost 71.5 to the end of track (a short distance west of University Avenue), and including 1,800 feet of connecting track linking the end of the western connection with the northern segment.

This transaction is related to a concurrently filed petition for exemption wherein PIRY seeks to discontinue service over 8.29 miles of rail line on the Kellar Branch and CIRY seeks to discontinue service over 5.72 miles of rail line on the Kellar Branch. See STB Docket No. AB-1056X, Pioneer Industrial Railway Co.—Discontinuance of Service Exemption—Line in Peoria County, IL, and STB Docket No. AB-1066 (Sub-No. 1X), Central Illinois Railroad Company—Discontinuance of Service Exemption—Line in Peoria County, IL.

The transaction may be consummated on or after January 28, 2010, the effective date of the exemption (30 days after the exemption was filed).

The purpose of the transaction is to: (1) Facilitate the possible conversion of the middle segment of the Kellar Branch to a recreational trail, (2) restructure the relationships among PIRY, CIRY, and the City of Peoria (City), so that PIRY and the City will no longer have a direct landlord-tenant relationship pursuant to a lease agreement, and (3) permit PIRY to continue to provide common carrier service, via local trackage rights, to shippers located on, or that may in the future locate on, the southern and northern segments of the Kellar Branch and on the western connection.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by January 21, 2010 (at least 7 days before the exemption becomes effective).

An original and 10 copies of all pleadings, referring to STB Finance Docket No. 35341, must be filed with the Surface Transportation Board, 395 E Street, SW., Washington, DC 20423-0001. In addition, a copy of each pleading must be served on William A. Mullins, 2401 Pennsylvania Avenue NW., Suite 300, Washington, DC 20037.

Board decisions and notices are available on our Web site at http://www.stb.dot.gov.

Decided: January 12, 2010.
By the Board, Rachel D. Campbell, Director, Office of Proceedings.
Jeffrey Herzig,
Clearance Clerk.

[FR Doc. 2010-693 Filed 1-14-10; 8:45 am]

BILLING CODE 4915-01-P